DEPARTMENT OF HEALTH AND HUMAN SERVICES

Health Resources and Services Administration

National Vaccine Injury Compensation Program: Revised Amount of the Average Cost of a Health Insurance Policy

The Health Resources and Services Administration (HRSA) is publishing an updated monetary amount of the average cost of a health insurance policy as it relates to the National Vaccine Injury Compensation Program (VICP).

Pursuant to section 100.2 of the VICP's implementing regulation (42 CFR Part 100), the Secretary announces that the revised average cost of a health insurance policy under the VICP is $382.30 per month. In accordance with § 100.2, the revised amount was effective upon its delivery by the Secretary to the United States Court of Federal Claims. Such notice was delivered to the Court on November 12, 2008.

Dated: December 8, 2008.
Elizabeth M. Duke,
Administrator.

[FR Doc. E8-29627 Filed 12-12-08; 8:45 am]

BILLING CODE 4165-15-P